DEPARTMENT OF ENERGY

Federal Energy Regulatory Commission

Combined Notice of Filings # 1

Docket Numbers: EG24-2-000.

Applicants: Crow Creek Solar, LLC.

Description: Crow Creek Solar, LLC submits Notice of Self-Certification of Exempt Wholesale Generator Status.

Filed Date: 10/3/23.

Accession Number: 20231003-5181.

Comment Date: 5 p.m. ET 10/24/23.

Take notice that the Commission received the Compliance filings in EL Dockets:

Docket Numbers: EL24-2-000.

Applicants: EverBright, LLC.

Description: Petition for Declaratory Order of Everbright, LLC.

Filed Date: 10/3/23.

Accession Number: 20231003-5194.

Comment Date: 5 p.m. ET 10/31/23.

Take notice that the Commission received the following electric rate filings:

Docket Numbers: ER22-736-005.

Applicants: System Energy Resources, Inc.

Description: Compliance filing: eTariff Compliance in Docket No. ER22-736 to be effective 3/1/2022.

Filed Date: 10/4/23.

Accession Number: 20231004-5002.

Comment Date: 5 p.m. ET 10/25/23.

Docket Numbers: ER24-15-000.

Applicants: Nova Power, LLC.

Description: Baseline eTariff Filing: Nova Power, LLC submits tariff filing per 35.12: Market-Based Rate Application and Request for Confidential Treatment to be effective 12/3/2023.

Filed Date: 10/3/23.

Accession Number: 20231003-5138.

Comment Date: 5 p.m. ET 10/24/23.

Docket Numbers: ER24-16-000.

Applicants: Southwest Power Pool, Inc.

Description: § 205(d) Rate Filing: Revisions to Remove the Attachment AR Screening Study Processes to be effective 12/4/2023.

Filed Date: 10/4/23.

Accession Number: 20231004-5030.

Comment Date: 5 p.m. ET 10/25/23.

Docket Numbers: ER24-17-000.

Applicants: Public Service Company of New Hampshire.

Description: Tariff Amendment: Cancellation Great Lakes Hydro American LLC Large Generator Interconnect Agrmnt to be effective 10/5/2023.

Filed Date: 10/4/23.

Accession Number: 20231004-5062.

Comment Date: 5 p.m. ET 10/25/23.

Docket Numbers: ER24-18-000.

Applicants: Ridgeview Solar LLC.

Description: Ridgeview Solar LLC submits a Petition for Limited Prospective Waiver of Tariff Provision, or Alternatively for Remedial Relief, and Shortened Comment Period and Expedited Action.

Filed Date: 10/2/23.

Accession Number: 20231002-5380.

Comment Date: 5 p.m. ET 10/23/23.

Docket Numbers: ER24-19-000.

Applicants: Cottontail Solar 1, LLC.

Description: Baseline eTariff Filing: Reactive Power Compensation Baseline to be effective 1/15/2024.

Filed Date: 10/4/23.

Accession Number: 20231004-5065.

Comment Date: 5 p.m. ET 10/25/23.

Docket Numbers: ER24-20-000.

Applicants: Cottontail Solar 2, LLC.

Description: Baseline eTariff Filing: Reactive Power Compensation Baseline to be effective 12/4/2023.

Filed Date: 10/4/23.

Accession Number: 20231004-5069.

Comment Date: 5 p.m. ET 10/25/23.

Docket Numbers: ER24-21-000.

Applicants: Cottontail Solar 8, LLC.

Description: Baseline eTariff Filing: Reactive Power Compensation Baseline to be effective 12/15/2023.

Filed Date: 10/4/23.

Accession Number: 20231004-5078.

Comment Date: 5 p.m. ET 10/25/23.

Docket Numbers: ER24-22-000.

Applicants: Pennsylvania Electric Company, PJM Interconnection, L.L.C.

Description: § 205(d) Rate Filing: Pennsylvania Electric Company submits tariff filing per 35.13(a)(2)(iii: Penelec Amends 10 ECSAs (6053 6137 6138 6141 6148 6287 6288 6289 6294 6295) to be effective 12/31/9998.

Filed Date: 10/4/23.

Accession Number: 20231004-5091.

Comment Date: 5 p.m. ET 10/25/23.

Docket Numbers: ER24-23-000.

Applicants: Florida Power & Light Company.

Description: § 205(d) Rate Filing: FPL OATT Attachment M (LGIP) Appendix 7 Standard (LGIA) Preamble and Recitals to be effective 12/4/2023.

Filed Date: 10/4/23.

Accession Number: 20231004-5114.

Comment Date: 5 p.m. ET 10/25/23.

Docket Numbers: ER24-24-000.

Applicants: ISO New England Inc., Versant Power.

Description: § 205(d) Rate Filing: ISO New England Inc. submits tariff filing per 35.13(a)(2)(iii: ISO-NE/Versant Power; Local Service Agreement LSA/ISONE/VERSANT-23-01 to be effective 12/2/2022.

Filed Date: 10/4/23.

Accession Number: 20231004-5118.

Comment Date: 5 p.m. ET 10/25/23.

Docket Numbers: ER24-25-000.

Applicants: Northern States Power Company, a Minnesota corporation.

Description: § 205(d) Rate Filing: 2023-10-5 GRE Century Sub-FSA 743-NSP to be effective 10/5/2023.

Filed Date: 10/4/23.

Accession Number: 20231004-5126.

Comment Date: 5 p.m. ET 10/25/23.

Docket Numbers: ER24-26-000.

Applicants: East Point Energy Center, LLC.

Description: Baseline eTariff Filing: East Point Energy Center, LLC Application for Market-Based Rate Authorization to be effective 12/4/2023.

Filed Date: 10/4/23.

Accession Number: 20231004-5131.

Comment Date: 5 p.m. ET 10/25/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 4, 2023.
Debbie-Anne A. Reese,
Deputy Secretary.

[FR Doc. 2023-22471 Filed 10-11-23; 8:45 am]

BILLING CODE 6717-01-P